NATIONAL SCIENCE FOUNDATION

Notice of Intent To Seek Approval To Extend an Information Collection

AGENCY: National Science Foundation.

ACTION: Submission for OMB Review; Comment Request.

SUMMARY: The National Science Foundation (NSF) has submitted the following information collection requirement to OMB for review and clearance under the Paperwork Reduction Act of 1995, Pub. L. 104-13. This is the second notice for public comment; the first was published in the Federal Register at 64 FR 61370 (November 10, 1999), and no comments were received. NSF is forwarding the proposed renewal submission to the Office of Management and Budget (OMB) for clearance simultaneously with the publication of this second notice.

Comments: Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, N.W. Room 10235, Washington, D.C. 20503, and to Suzanne H. Plimpton, Reports Clearance Officer, National Science Foundation, 4201 Wilson Boulevard, Suite 295, Arlington, Virginia 22230 or send email to splimpto@nsf.gov.

DATES: Comments regarding these information collections are best assured of having their full effect if received within 30 days of this notification. Copies of the submission(s) may be obtained by calling 703-292-7556.

FOR FURTHER INFORMATION CONTACT: Suzanne H. Plimpton, NSF Reports Clearance Officer at 703-292-7556 or send email to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Evaluation of the NSF Summer Programs in Japan, the NSF Postdoctoral Research Fellowships in Japan, and the NSF-CGP Science Fellowships Program.

OMB Number: 3145-New.

Expiration Date of Approval: Not applicable.

Type of Request: Intent to seek approval to carry out a new information collection for one year.

Abstract: “Evaluation of the NSF Summer Programs in Japan, the NSF Postdoctoral Research Fellowships in Japan, and the NSF-CGP Science Fellowships Program.”

Proposed Project: The National Science Foundation (NSF), through its East Asia and Pacific Program within the Division of International Programs, manages a suite of programs designed to encourage and provide international research experiences for American scientists and engineers with Japanese colleagues. This suite of programs includes the NSF-CGP Science Fellowships and the Postdoctoral Research Fellowships in Japan for Ph.D.—holding scientists, and the Summer Institute in Japan and the Monbusho Summer Program for U.S. Graduate Students in Science and Engineering.

These Programs provide opportunities for improvements in cultural sensitivity and in the knowledge of foreign scientific community infrastructure. The international collaborative experiences provided through the Programs may be “catalytic” by bringing scientists from a larger global pool together in “discovery” and “connection,” and by the American participants' sharing their newly-acquired knowledge, experiences and impressions with the domestic scientific community.

The purpose of the proposed program evaluation is to assess the Programs within the context of both their individually-stated objectives and the greater NSF-wide objectives. The tenth anniversary this year of the Summer Institute in Japan marks an appropriate time for a longitudinal study of program effectiveness and success, particularly with regard to the effect of an early international experience on developing research careers. The JSPS and STA Postdoctoral Fellowships and the NSF-CGP Science Fellowships have a long history (more than a decade) by which their impact on both individual careers and the scientific community can be assessed.

Use of the Information: The information will be used by NSF to assess the extent to which these approaches to developing international collaborations among young and experienced US and Asian researchers are achieving the intended programmatic goals and are consistent with the specific outcome goals defined in the context of the current NSF Strategic Plan required by the Government Performance and Results Act (GPRA) of 1993. Among NSF's outcome goals, the most relevant to its investments in developing collaborations with Asian researchers are: Promoting discoveries at and across the frontier of science and engineering; facilitating connections between discoveries and their use in service to society; developing a diverse, globally oriented workforce of scientists and engineers.

Estimate of Burden: Public reporting burden for this collection of information is estimated to average 30 minutes per response.

Respondents: Individuals.

Estimated Number of Responses per Form: 1040.

Estimated Total Annual Burden on Respondents: 520 hours—1040 respondents at 1/2 hour per response.

Frequency of Responses: One time.

Dated: October 2, 2000.
Suzanne H. Plimpton,
Reports Clearance Officer.

[FR Doc. 00-25728 Filed 10-5-00; 8:45 am]

BILLING CODE 7555-01-M